MILLENNIUM CHALLENGE CORPORATION

[MCC FR 04-10]

Public Outreach Meeting

AGENCY: Millennium Challenge Corporation.

ACTION: Notice.

SUMMARY: The Millennium Challenge Corporation (MCC) will hold a public outreach meeting on Friday, September 24, 2004. On August 31, 2004, MCC published its proposed criteria and methodology for selection of countries eligible for Millennium Challenge Account Assistance in FY 2005 and initiated a 30-day public comment period, as required by the Millennium Challenge Act of 2003, 22 U.S.C.A 7701, 7707(b). MCC staff will review the criteria and methodology and entertain questions from the audience.

DATES: Friday, September 24, 2004, 11 a.m.-12 p.m.

ADDRESSES: General Services Administration, Main Entrance, 18th and F Streets, NW., Washington, DC 20405.

FOR FURTHER INFORMATION CONTACT: Information on the meeting may be obtained from Cassandra Jastrow at (202) 521-3855.

SUPPLEMENTARY INFORMATION: Due to security requirements at the meeting location, all individuals wishing to attend the meeting are encouraged to arrive at least 20 minutes before the meeting begins and must comply with all relevant security requirements of the General Services Administration. Those wishing to attend should e-mail Cassandra Jastrow at jastrowcl2@mcc.gov with the following information: Name, telephone number, affiliation/company name, social security number, and date of birth. Seating will be available on a first come, first served basis.

Dated: September 16, 2004.
Frances C. McNaught,
Vice President, Domestic Relations, Millennium Challenge Corporation.

[FR Doc. 04-21191 Filed 9-20-04; 8:45 am]

BILLING CODE 9210-01-P